DEPARTMENT OF THE TREASURY

Internal Revenue Service

Low Income Taxpayer Clinic Grant Program; Availability of 2007 Supplemental Grant Application Period for Colorado

AGENCY: Internal Revenue Service (IRS), Treasury.

ACTION: Notice.

SUMMARY: This document contains a Notice that the IRS has made available a supplemental period within which organizations in Colorado may apply for a Low Income Taxpayer Clinic (LITC) matching grant for the remainder of the 2007 grant cycle (the 2007 grant cycle runs January 1, 2007, through December 31, 2007). The supplemental application period shall run from April 27, 2007, to May 25, 2007.

The LITC grant program is now in its ninth year and continues to expand. To date in 2007, the LITC Program Office has awarded LITC grants to 154 organizations in 49 states, the District of Columbia, Puerto Rico, and Guam. Currently there are no LITCs in the state of Colorado. The IRS has approximately $55,000 available in matching grant funds to award to qualifying organizations in Colorado. In order to be considered for a supplemental 2007 Low Income Taxpayer Clinic grant, a qualifying organization must be in a position to provide qualified services to taxpayers in Colorado. Qualifying organizations that provide representation for free or for a nominal fee to low income taxpayers involved in tax controversies with the IRS or that provide education on taxpayer rights and responsibilities to taxpayers for whom English is a second language or who have limited English proficiency can apply for matching grants for the remainder of the 2007 grant cycle.

Examples of qualifying organizations include: (1) Clinical programs at accredited law, business or accounting schools, whose students may represent low income taxpayers in tax controversies with the IRS, and (2) organizations exempt from tax under I.R.C. § 501(a) which represent low income taxpayers in tax controversies with the IRS or refer those taxpayers to qualified representatives.

DATES: All grant applications for the remainder of the 2007 grant cycle must be postmarked by May 25, 2007, in order to be considered timely. If filing electronically, applications must be submitted on or before May 25, 2007.

ADDRESSES: Send completed grant applications to: Internal Revenue Service, Taxpayer Advocate Service, LITC Program Office, TA:LITC, Attention: LITC Supplemental Applications, 1111 Constitution Ave., NW., Room 1034, Washington, DC 20224. Copies of the 2007 Grant Application Package and Guidelines, IRS Publication 3319 (Rev. 5-2006), can be downloaded from the IRS Internet site at http://www.irs.gov/advocate or ordered from the IRS Distribution Center by calling 1-800-829-3676. Applicants can also file electronically at www.grants.gov. For applicants applying through the Federal Grants Web site, the Funding Number is TREAS-GRANTS-052007-002.

FOR FURTHER INFORMATION CONTACT: The LITC Program Office at 202-622-4711 (not a toll-free number) or by e-mail at LITCProgramOffice@irs.gov.

SUPPLEMENTARY INFORMATION:

Background

Section 7526 of the Internal Revenue Code authorizes the IRS, subject to the availability of appropriated funds, to award organizations matching grants of up to $100,000 per year for the development, expansion, or continuation of qualified low income taxpayer clinics. Section 7526 authorizes the IRS to provide grants to qualified organizations that represent low income taxpayers in controversies with the IRS or inform individuals for whom English is a second language of their taxpayer rights and responsibilities. The IRS may award grants to qualifying organizations to fund one-year, two-year or three-year project periods. Grant funds may be awarded for start-up expenditures incurred by new clinics during the grant period.

The 2007 Grant Application Package and Guidelines, Publication 3319 (Rev. 5-2006), outlines requirements for the operation of a qualifying LITC program and provides instructions on how to apply for a grant. The costs of preparing and submitting an application are the responsibility of each applicant. Each application will be given due consideration and the LITC Program Office will mail notification letters to each applicant.

Selection Consideration

Applications that pass the eligibility screening process will be numerically ranked based on the information contained in their proposed program plan. Please note that the IRS Volunteer Income Tax Assistance (VITA) and Tax Counseling for the Elderly (TCE) Programs are independently funded and separate from the LITC Program. Organizations currently participating in the VITA or TCE Programs may be eligible to apply for a LITC grant if they meet the criteria and qualifications outlined in the 2007 Grant Application Package and Guidelines, Publication 3319 (Rev. 5-2006). Organizations that seek to operate VITA and LITC Programs, or TCE and LITC Programs, must maintain separate and distinct programs even if co-located to ensure proper cost allocation for LITC grant funds and adherence to the rules and regulations of the VITA, TCE and LITC Programs, as appropriate.

Comments

Interested parties are encouraged to provide comments on the IRS's administration of the grant program on an ongoing basis. Comments may be sent to Sandra McQuin, P.O. Box 2305, Stop 1006MIL, Milwaukee, WI 53201-3205.

Melissa R. Snell,
Deputy National Taxpayer Advocate, Internal Revenue Service.

[FR Doc. E7-8301 Filed 4-30-07; 8:45 am]

BILLING CODE 4830-01-P